DEPARTMENT OF TRANSPORTATION

Federal Aviation Administration

14 CFR Part 39

[Docket No. FAA-2006-24200; Directorate Identifier 2006-NM-012-AD; Amendment 39-14630; AD 2006-12-05]

RIN 2120-AA64

Airworthiness Directives; Airbus Model A300 B4 Series Airplanes; Model A300 B4-600 Series Airplanes; Model A300 C4-605R Variant F Airplanes; Model A310-200 Series Airplanes; and Model A310-300 Series Airplanes

AGENCY: Federal Aviation Administration (FAA), Department of Transportation (DOT).

ACTION: Final rule.

SUMMARY: The FAA is superseding an existing airworthiness directive (AD), which applies to certain Airbus Model A300 B4-600 and A300 C4-600 series airplanes. That AD currently requires a one-time inspection to detect damage of the pump diffuser guide slots (bayonet) of the center tank fuel pumps, the pump diffuser housings, and the pump canisters; repetitive inspections to detect damage of the fuel pumps and the fuel pump canisters; and corrective action, if necessary. This new AD adds, for new airplanes, repetitive inspections of the pump bodies for cracking, damage, and missing and broken fasteners; repetitive inspections of the fuel pump canisters for a cracked flange web; and corrective actions if necessary. For all airplanes, this new AD also adds replacement of the fuel pump canisters with new reinforced fuel pump canisters, which ends the repetitive inspections. This AD results from fuel system reviews conducted by the manufacturer. We are issuing this AD to detect and correct damage of the center tank fuel pumps and fuel pump canisters, which could result in separation of a pump from its electrical motor housing, loss of flame trap capability, and a possible fuel ignition source in the center fuel tank.

DATES: This AD becomes effective July 12, 2006.

The Director of the Federal Register approved the incorporation by reference of certain publications listed in the AD as of July 12, 2006.

On May 19, 2004 (69 FR 19756, April 14, 2004), the Director of the Federal Register approved the incorporation by reference of Airbus All Operators Telex A300-600-28A6075, dated February 20, 2003.

ADDRESSES: You may examine the AD docket on the Internet at http://dms.dot.gov or in person at the Docket Management Facility, U.S. Department of Transportation, 400 Seventh Street, SW., Nassif Building, Room PL-401, Washington, DC.

Contact Airbus, 1 Rond Point Maurice Bellonte, 31707 Blagnac Cedex, France, for service information identified in this AD.

FOR FURTHER INFORMATION CONTACT: Thomas Stafford, Aerospace Engineer, International Branch, ANM-116, Transport Airplane Directorate, FAA, 1601 Lind Avenue, SW., Renton, Washington 98055-4056; telephone (425) 227-1622; fax (425) 227-1149.

SUPPLEMENTARY INFORMATION:

Examining the Docket

You may examine the airworthiness directive (AD) docket on the Internet at http://dms.dot.gov or in person at the Docket Management Facility office between 9 a.m. and 5 p.m., Monday through Friday, except Federal holidays. The Docket Management Facility office (telephone (800) 647-5227) is located on the plaza level of the Nassif Building at the street address stated in the ADDRESSES section.

Discussion

The FAA issued a notice of proposed rulemaking (NPRM) to amend 14 CFR part 39 to include an AD that supersedes AD 2004-08-03, amendment 39-13572 (69 FR 19756, April 14, 2004). The existing AD applies to certain Airbus Model A300 B4-600 and A300 C4-600 series airplanes. That NPRM was published in the Federal Register on March 27, 2006 (71 FR 15079). That NPRM proposed to require a one-time inspection to detect damage of the pump diffuser guide slots (bayonet) of the center tank fuel pumps, the pump diffuser housings, and the pump canisters; repetitive inspections to detect damage of the fuel pumps and the fuel pump canisters; and corrective action, if necessary. That NPRM proposed to add, for new airplanes, repetitive inspections of the pump bodies for cracking, damage, and missing and broken fasteners; repetitive inspections of the fuel pump canisters for a cracked flange web; and corrective actions if necessary. For all airplanes, that NPRM also proposed to add replacement of the fuel pump canisters with new reinforced fuel pump canisters, which ends the repetitive inspections.

Comments

We provided the public the opportunity to participate in the development of this AD. No comments have been received on the NPRM or on the determination of the cost to the public.

Conclusion

We have carefully reviewed the available data and determined that air safety and the public interest require adopting the AD as proposed.

Costs of Compliance

This AD will affect about 74 airplanes of U.S. registry. The following table provides the estimated costs, at an average labor rate of $80 per hour, for U.S. operators to comply with this AD.

Estimated Costs
Airbus Model— | Action | Work hours | Parts | Cost per airplane | Number U.S.-registered airplanes | Fleet cost
A300 B4-600 series airplanes and Model A300 C4-605R Variant F airplanes | Detailed inspection (required by AD 2004-08-03) | 2 | None | $160 | 2 | $320.
| Eddy current inspection (required by AD 2004-08-03) | 5 | None | $400, per inspection cycle | 2 | $800, per inspection cycle.
| Replacements (new action) | 7 | $70 | $630 | 2 | 1,260.
A300 B4 series airplanes | Repetitive inspection (new action) | 2 | None | $160, per inspection cycle | 16 | $2,560, per inspection cycle.
| Replacements (new action) | 10 | $80 | $880 | 16 | $14,080.
A310-200 and -300 series airplanes | Repetitive inspection (new action) | 2 | None | $160, per inspection cycle | 56 | $8,960, per inspection cycle.
| Replacements (new action) | 10 | $50 | $850 | 56 | $47,600.

run

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by removing amendment 39-13572 (69 FR 19756, April 14, 2004) and by adding the following new airworthiness directive (AD):

2006-12-05 Airbus: Amendment 39-14630. Docket No. FAA-2006-24200; Directorate Identifier 2006-NM-012-AD.

Effective Date

(a) This AD becomes effective July 12, 2006.

Affected ADs

(b) This AD supersedes AD 2004-08-03.

Applicability

(c) This AD applies to the Airbus airplanes identified in paragraphs (c)(1) and (c)(2) of this AD, certificated in any category.

(1) Model A300 B4-601, B4-603, B4-620, and B4-622 airplanes; and Model A300 C4-605R Variant F airplanes; except those airplanes equipped with a fuel trim tank system (that have incorporated Airbus Modification 4801).

(2) All Model A300 B4-2C, B4-103, and B4-203 airplanes; Model A310-203, -204, -221, and -222 airplanes; and Model A310-304, -322, -324, and -325 airplanes.

Unsafe Condition

(d) This AD results from fuel system reviews conducted by the manufacturer. We are issuing this AD to detect and correct damage of the center tank fuel pumps and fuel pump canisters, which could result in separation of a pump from its electrical motor housing, loss of flame trap capability, and a possible fuel ignition source in the center fuel tank.

Compliance

(e) You are responsible for having the actions required by this AD performed within the compliance times specified, unless the actions have already been done.

Restatement of Requirements of AD 2004-08-03

Detailed Inspections

(f) For Model A300 B4-601, B4-603, B4-620, and B4-622 airplanes and Model A300 C4-605R Variant F airplanes: Within 15 days after May 19, 2004 (the effective date of AD 2004-08-03) (unless accomplished previously), perform detailed inspections as specified in paragraphs (f)(1) and (f)(2) of this AD, in accordance with paragraph 4.2 of Airbus All Operators Telex (AOT) A300-600-28A6075, dated February 20, 2003; or Revision 01, dated October 24, 2005.

Note 1: For the purposes of this AD, a detailed inspection is: “An intensive examination of a specific item, installation, or assembly to detect damage, failure, or irregularity. Available lighting is normally supplemented with a direct source of good lighting at an intensity deemed appropriate. Inspection aids such as mirror, magnifying lenses, etc., may be necessary. Surface cleaning and elaborate procedures may be required.”

(1) Inspect the lower part of the pump diffuser guide slots (bayonet) of the center tank fuel pumps and the bottom of the pump diffuser housings to detect cracks, fretting, and other damage. Replace any damaged pump and the corresponding fuel pump canister with new parts before further flight in accordance with the AOT.

(2) Inspect the center tank fuel pump canisters to detect cracks. Replace any cracked fuel pump canister and the corresponding fuel pump with new parts before further flight in accordance with the AOT.

Repetitive Inspections With New Repetitive Intervals

(g) For Model A300 B4-601, B4-603, B4-620, and B4-622 airplanes and Model A300 C4-605R Variant F airplanes: Within 600 flight hours after May 19, 2004, perform a detailed inspection of the fuel pumps, and an eddy current inspection of the fuel pump canisters, to detect damage. Do the inspections in accordance with paragraph 4.3 of Airbus AOT A300-600-28A6075, dated February 20, 2003; or Revision 01, dated October 24, 2005. Replace any damaged part with a new part before further flight in accordance with the AOT. Repeat the inspections at intervals not to exceed 3,000 flight cycles.

(h) For Model A300 B4-601, B4-603, B4-620, and B4-622 airplanes and Model A300 C4-605R Variant F airplanes: Within 7,000 flight cycles after canister replacement as specified in paragraph (g) of this AD, perform an eddy current inspection of the fuel pump canisters to detect damage in accordance with Airbus AOT A300-600-28A6075, dated February 20, 2003; or Revision 01, dated October 24, 2005. Replace any damaged part with a new part before further flight in accordance with the AOT. Thereafter repeat the inspection at intervals not to exceed 3,000 flight cycles.

Note 2: Airbus AOT A300-600-28A6075 refers to Airbus Alert Service Bulletin A300-28A6061, Revision 04, dated August 1, 2002, as an additional source of service information for accomplishment of the eddy current inspection required by paragraphs (g) and (h) of this AD.

Reporting Requirement

(i) For Model A300 B4-601, B4-603, B4-620, and B4-622 airplanes and Model A300 C4-605R Variant F airplanes: At the applicable time specified in paragraph (i)(1) or (i)(2) of this AD, submit a report of findings (both positive and negative) of each inspection required by this AD, in accordance with Airbus AOT A300-600-28A6075, dated February 20, 2003. Information collection requirements contained in this AD have been approved by the Office of Management and Budget (OMB) under the provisions of the Paperwork Reduction Act of 1980 (44 U.S.C. 3501 et seq.) and have been assigned OMB Control Number 2120-0056.

(1) For any inspection accomplished after May 19, 2004: Submit the report within 10 days after performing that inspection.

(2) For any inspection accomplished before May 19, 2004: Submit the report within 10 days after May 19, 2004.

Requirements of This AD

Repetitive Inspections for New Airplanes

(j) For Model A300 B4-2C, B4-103, and B4-203 airplanes; Model A310-203, -204, -221, and -222 airplanes; and Model A310-304, -322, -324, and -325 airplanes: At the applicable compliance time specified in paragraphs (j)(1) and (j)(2) of this AD, do a detailed inspection of the pump bodies for cracking, damage, and missing and broken fasteners; and do a high frequency eddy current (HFEC) inspection of the fuel pump canisters for a cracked flange web, in accordance with the Accomplishment Instructions of Airbus Service Bulletin A300-28-0084, excluding Appendix 01, dated June 28, 2005 (for Model A300 B4-2C, B4-103, and B4-203 airplanes); or Airbus Service Bulletin A310-28-2159, excluding Appendix 01, dated June 28, 2005 (for Model A310-203, -204, -221, and -222 airplanes and Model A310-304, -322, -324, and -325 airplanes), as applicable. If any crack or damage to the pump bodies is found or any missing or broken fastener is found, before further flight, replace the fuel pump with a new fuel pump in accordance with the applicable service bulletin. Repeat the detailed inspection of the pump bodies thereafter at intervals not to exceed 3,000 flight cycles. If no cracked flange web is found, repeat the HFEC inspection of the fuel pump canisters thereafter at intervals not to exceed 3,000 flight cycles. Accomplishing the replacements specified in paragraph (1) of this AD terminates the repetitive detailed and HFEC inspections.

(1) For Model A300 B4-2C, B4-103, and B4-203 airplanes: Inspect before the airplane has accumulated 19,600 total flight cycles, or within 1,000 flight cycles after the effective date of this AD, whichever is later.

(2) For Model A310-203, -204, -221, and -222 airplanes and Model A310-304, -322, -324, and -325 airplanes: Inspect before the airplane has accumulated 27,000 total flight cycles, or within 1,000 flight cycles after the effective date of this AD, whichever is later.

Corrective Action for Cracked Flange Web

(k) For Model A300 B4-2C, B4-103, and B4-203; Model A310-203, -204, -221, and -222 airplanes; and Model A310-304, -322, -324, and -325 airplanes: If any flange web is found cracked during any HFEC inspection required by paragraph (j) of this AD, before further flight after the inspection, replace the fuel pump canister with a new fuel pump canister in accordance with the Accomplishment Instructions of Airbus Service Bulletin A300-28-0084, dated June 28, 2005; or Airbus Service Bulletin A310-28-2159, dated June 28, 2005, as applicable. Repeat the HFEC inspection at the applicable compliance times specified in paragraph (k)(1) or (k)(2) of this AD, until the replacements specified in paragraph (l) of this AD are accomplished.

(1) For Model A300 B4-2C, B4-103, and B4-203 airplanes: Inspect within 19,600 flight cycles after replacing the fuel pump canisters and thereafter at intervals not to exceed 3,000 flight cycles.

(2) For Model A310-203, -204, -221, and -222 airplanes and Model A310-304, -322, -324, and -325 airplanes: Inspect within 27,000 flight cycles after replacing the fuel pump canisters and thereafter at intervals not to exceed 3,000 flight cycles.

Terminating Action: Replacement of Fuel Pump Canisters

(1) For all airplanes: Within 66 months after the effective date of this AD, replace the fuel pump canisters with new reinforced fuel pump canisters, in accordance with the Accomplishment Instructions of Airbus Service Bulletin A300-28-0085, dated July 18, 2005 (for Model A300 B4-2C, B4-103, and B4-203 airplanes); Airbus Service Bulletin A300-28-6089, Revision 01, dated November 28, 2005 (for Model A300 B4-601, B4-603, B4-620, and B4-622 airplanes and Model A300 C4-605R Variant F airplanes); or Airbus Service Bulletin A310-28-2160, dated July 18, 2005 (for Model A310-203, -204, -221, and -222 airplanes and Model A310-304, -322, -324, and -325 airplanes), as applicable. Replacement of a fuel pump canister terminates the repetitive inspections required by paragraphs (f), (g), (h), (j) and (k), as applicable, for that fuel pump canister only.

Credit for Previous Service Bulletin

(m) For Model A300 B4-601, B4-603, B4-620, and B4-622 airplanes and Model A300 C4-605R Variant F airplanes: Actions done before the effective date of this AD in accordance with Airbus Service Bulletin A300-28-6089, dated July 18, 2005, are acceptable for compliance with the requirements of paragraph (l) of this AD.

Alternative Methods of Compliance (AMOCs)

(n)(1) The Manager, International Branch, ANM-116, Transport Airplane Directorate, FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

Related Information

(o) French airworthiness directive F-2005-199, dated December 7, 2005, also addresses the subject of this AD.

Material Incorporated by Reference

(p) You must use the Airbus service information identified in Table 1 of this AD to perform the actions that are required by this AD, as applicable, unless the AD specifies otherwise.

Table 1.—Material Incorporated by Reference
Airbus service information | Revision level | Date
All Operators Telex A300-600-28A6075 | Original | February 20, 2003.
All Operators Telex A300-28A6075 | 01 | October 24, 2005.
Service Bulletin A300-28-0084, excluding Appendix 01 | Original | June 28, 2005.
Service Bulletin A300-28-0085 | Original | July 18, 2005.
Service Bulletin A300-28-6089 | 01 | November 28, 2005.
Service Bulletin A310-28-2159, excluding Appendix 01 | Original | June 28, 2005.
Service Bulletin A310-28-2160 | Original | July 18, 2005.

(1) The Director of the Federal Register approved the incorporation by reference of the Airbus service information identified in Table 2 of this AD in accordance with 5 U.S.C. 552(a) and 1 CFR part 51.

Table 2.—New Material Incorporated by Reference
Airbus service information | Revision level | Date
All Operators Telex A300-28A6075 | 01 | October 24, 2005.
Service Bulletin A300-28-0084, excluding Appendix 01 | Original | June 28, 2005.
Service Bulletin A300-28-0085 | Original | July 18, 2005.
Service Bulletin A300-28-6089 | 01 | November 28, 2005.
Service Bulletin A310-28-2159, excluding Appendix 01 | Original | June 28, 2005.
Service Bulletin A310-28-2160 | Original | July 18, 2005.

(Only the first page of Airbus All Operators Telex A300-28A6075, Revision 01, dated October 24, 2005, contains the document number and issue date; no other page of this document contains this information.)

(2) On May 19, 2004 (69 FR 19756, April 14, 2004), the Director of the Federal Register approved the incorporation by reference of Airbus All Operators Telex A300-600-28A6075, dated February 20, 2003.

(3) Contact Airbus, 1 Rond Point Maurice Bellonte, 31707 Blagnac Cedex, France, for a copy of this service information. You may review copies at the Docket Management Facility, U.S. Department of Transportation, 400 Seventh Street, SW., Room PL-401, Nassif Building, Washington, DC; on the Internet at http://dms.dot.gov; or at the National Archives and Records Administration (NARA). For information on the availability of this material at the NARA, call (202) 741-6030, or go to http://www.archives.gov/federal_register/code_of_federal_regulations/ibr_locations.html.

Issued in Renton, Washington, on May 30, 2006.
Jeffrey E. Duven,
Acting Manager, Transport Airplane Directorate, Aircraft Certification Service.

[FR Doc. 06-5122 Filed 6-6-06; 8:45 am]

BILLING CODE 4910-13-P